DEPARTMENT OF HEALTH AND HUMAN SERVICES

Centers for Disease Control and Prevention

[60Day-02-12]

Proposed Data Collections Submitted for Public Comment and Recommendations

In compliance with the requirement of section 3506(c)(2)(A) of the Paperwork Reduction Act of 1995 for opportunity for public comment on proposed data collection projects, the Centers for Disease Control and Prevention (CDC) will publish periodic summaries of proposed projects. To request more information on the proposed projects or to obtain a copy of the data collection plans and instruments, call the CDC Reports Clearance Officer on (404) 639-7090.

Comments are invited on: (a) Whether the proposed collection of information is necessary for the proper performance of the functions of the agency, including whether the information shall have practical utility; (b) the accuracy of the agency's estimate of the burden of the proposed collection of information; (c) ways to enhance the quality, utility, and clarity of the information to be collected; and (d) ways to minimize the burden of the collection of information on respondents, including through the use of automated collection techniques or other forms of information technology. Send comments to Anne O'Connor, CDC Assistant Reports Clearance Officer, 1600 Clifton Road, MS-D24, Atlanta, GA 30333. Written comments should be received within 60 days of this notice.

Proposed Project: Adolescents At Risk for HIV: Planning for a Community-Level Intervention—New—National Center for HIV, STD, and TB Prevention (NCHSTP), Centers for Disease Control and Prevention (CDC). The purpose of this request is to obtain approval to conduct a formative research study to understand the prevalence of HIV prevention and drug use behaviors and their influences among adolescent children of women who use crack. Adolescent children of parents who use crack experience a range of individual and environmental risk factors that increase their susceptibility to HIV due to their parents' drug and sexual risk behaviors and resource-poor environments. Despite the multiple risk factors, these adolescents often do not receive community-level HIV prevention services that promote their healthy development into young adults.

The goals of the study are to identify individual, parent, peer, school, and community influences on HIV prevention and risk behaviors of adolescent children of crack users in an urban North Carolina community and to develop a community-level HIV prevention intervention plan targeting these adolescents. The objectives of the study are to (a) conduct adolescent interviews and observations of their neighborhoods; (b) to conduct maternal interviews; (c) to administer mailed teacher questionnaires; and (d) to interview community providers.

The sample will be drawn from mothers participating in an HIV prevention intervention tailored to African-American women reporting current crack use. To be eligible for the proposed study, women must (1) be mothers; (b) report that they have at least one child between 12 and 17 years old who is currently living in the same household; (c) provide written consent for their adolescent child(ren) to participate in this study; and (d) provide written consent to gather information from their child(ren)'s teacher about his/her behavior and school performance. Mothers will be asked about their drug use and risk behaviors, parenting, and their adolescents' behaviors and school performance. Adolescents will be asked about their current drug use, abstinence and/or sexual experience, behaviors, school performance, HIV/AIDS-related beliefs, and other perceived influences from family, school, and peers. During individual interviews, adolescent participants will be asked for the name of the teacher with whom they spend the most time at school. These teachers will be invited to complete a mailed questionnaire about the target adolescents' behavior and school performance, as well as a brief survey about school-level HIV prevention resources and barriers, and perceptions of student substance abuse and health behaviors. Maternal, adolescent, and teacher questions will be drawn from the Achenbach behavior rating system and other youth surveys (e.g., the National Household Survey on Drug Abuse) with national comparison data. Community providers from local organizations that provide formal and informal services to adolescents will be interviewed to assess current services, resources, utilization, accessibility, and barriers to care. Community observations will also be conducted in settings identified by adolescents as places and neighborhoods they frequent to identify geographic information that may serve to mobilize community resources toward an HIV prevention intervention.

The data will be summarized to understand the prevalence of HIV prevention and drug use behaviors and their influences within the study sample of adolescent children of mothers who use crack. Together, these data will be presented at a planning meeting with key community providers near the close of the study. The purpose of this meeting will be to facilitate community-level collaboration and to develop a community intervention plan to prevent HIV among high-risk adolescent children of crack users.

There is no cost to respondents.

Respondents | Number of respondents | Number of responses per respondent | Average response/burden (in hours) | Total burden (in hours)
Mothers | 154 | 1 | 75/60 | 192.5
Adolescents | 154 | 1 | 75/60 | 192.5
Teachers | 154 | 1 | 30/60 | 77
Community Providers | 20 | 1 | 75/60 | 25
Total |  |  |  | 487

Dated: November 23, 2001.
Julie Fishman,
Acting Associate Director for Policy, Planning and Evaluation, Centers for Disease Control, and Prevention.

[FR Doc. 01-29620 Filed 11-27-01; 8:45 am]

BILLING CODE 4163-18-P